ENVIRONMENTAL PROTECTION AGENCY

[OPP-66277; FRL-6589-9]

Notice of Receipt of Requests to Voluntary Cancel Certain Pesticide Registrations

AGENCY: Environmental Protection Agency (EPA).

ACTION: Notice.

SUMMARY: In accordance with section 6(f)(1) of the Federal Insecticide, Fungicide and Rodenticide Act (FIFRA), as amended, EPA is issuing a notice of receipt of requests by registrants to voluntarily cancel certain pesticide registrations.

DATES: Unless a request is withdrawn by, December 11, 2000, orders will be issued canceling all of these registrations.

FOR FURTHER INFORMATION CONTACT: By mail: James A. Hollins, Office of Pesticide Programs (7502C), Environmental Protection Agency, 1200 Pennsylvania Avenue, N.W., Washington, DC 20460. Office location for commercial courier delivery, telephone number and e-mail address: Rm. 224, Crystal Mall No. 2, 1921 Jefferson Davis Highway, Arlington, VA 22202, (703) 305-5761; e-mail: hollins.james@epa.gov.

SUPPLEMENTARY INFORMATION:

I. General Information

A. Does this apply to me?

This action is directed to the public in general. Although this action may be of particular interest to persons who produce or use pesticides, the Agency has not attempted to describe all the specific entities that may be affected by this action. If you have any questions regarding the information in this notice, consult the person listed in the FOR FURTHER INFORMATION CONTACT.

B. How can I get additional information or copies of support documents?

1. Electronically. You may obtain electronic copies of this document and various support documents are available from the EPA Home Page at the Federal Register-Environmental Documents entry for this document under “Laws and Regulations” (http://www.epa.gov/fedrgstr/).

2. In person. Contact James A. Hollins at 1921 Jefferson Davis Highway, Crystal Mall 2, Rm. 224, Arlington, VA, telephone number (703) 305-5761. Available from 7:30 a.m. to 4:45 p.m., Monday thru Friday, excluding legal holidays.

II. What Action is the Agency Taking?

This notice announces receipt by the Agency of applications from registrants to cancel some 60 pesticide products registered under section 3 or 24 of FIFRA. These registrations are listed in sequence by registration number (or company number and 24 number) in the following Table 1.

Table 1.—Registrations with Pending Requests for Cancellation
Registration No. | Product Name | Chemical Name
WA-00-0002 |  | Gas cartidge (as a device for burrowing animal control)
000016-00121 | Dragon Sevin-Dipel Insect & Worm Dust | Bacillus thuringiensis subsp. kurstaki
|  | 1-Naphthyl-N-methylcarbamate
000239-00568 | Ortho Home Orchard Spray | Methoxychlor (2,2-bis(p-methoxyphenyl) -1,1,1-trichloroethane)
|  | O,O-Dimethyl phosphorodithioate of diethyl mercaptosuccinate
|  | cis-N-Trichloromethylthio-4-cyclohexene-1,2-dicarboximide
000239-00729 | Orthocide Garden Fungicide | cis-N-Trichloromethylthio-4-cyclohexene-1,2-dicarboximide
000264-00551 | Buctril + Atrazine Gel | 3,5-Dibromo-4-hydroxybenzonitrile octanoate
|  | 2-Chloro-4-(ethylamino)-6-(isopropylamino)-s-triazine
|  | 3,5-Dibromo-4-hydroxybenzonitrile heptanoate
000264 AL-94-0004 |  | Dimethyl N,N' (thiobis ((methylimino)carbonyloxy))bis (ethanimidothioate)
000264 CT-89-0001 | Larvin Brand 3.2 Thiodicarb Insecticide/Ovicide | Dimethyl N,N'-(thiobis ((methylimino)carbonyloxy))bis (ethanimidothioate)
000264 DE-87-0002 | Larvin 3.2 Thiodicarb Insecticide Aqueous Flowable | Dimethyl N,N'-(thiobis((methylimino)carbonyloxy)) bis(ethanimidothioate)
000264 GA-87-0004 | Larvin 3.2 Thiodicarb Insecticide Aqueous Flowable | Dimethyl N,N'-(thiobis((methylimino)carbonyloxy)) bis(ethanimidothioate)
000264 LA-86-0006 | Larvin 3.2 Thiodicarb Insecticide Aqueous Flowable | Dimethyl N,N'-(thiobis((methylimino) carbonyloxy))bis(ethanimidothioate)
000264 MD-88-0003 | Larvin Brand 3.2 Thiodicarb Insecticide/Ovicide | Dimethyl N,N'-(thiobis((methylimino) carbonyloxy)) bis(ethanimidothioate)
000264 ME-91-0006 | Larvin Brand 3.2 Thiodicarb Insecticide/Ovicide | Dimethyl N,N'- (thiobis ((methylimino) carbonyloxy))bis (ethanimidothioate)
000264 MI-86-0005 | Larvin 3.2 Thiodicarb Insecticide Aqueous Flowable | Dimethyl N,N'-(thiobis( (methylimino) carbonyloxy) ) bis(ethanimidothioate)
000264 MS-86-0002 | Larvin 3.2 Thiodicarb Insecticide Aqueous Flowable | Dimethyl N,N'-(thiobis((methylimino)carbonyloxy))bis(ethanimidothioate)
000264 NC-86-0002 | Larvin 3.2 Thiodicarb Insecticide Aqueous Flowable | Dimethyl N,N'-(thiobis((methylimino)carbonyloxy))bis(ethanimidothioate)
000264 NH-92-0002 | Larvin Brand 3.2 Thiodicarb Insecticide/Ovicide | Dimethyl N,N'-(thiobis((methylimino)carbonyloxy))bis(ethanimidothioate)
000264 NJ-92-0001 | Larvin Brand 3.2 Thiodicarb Insecticide/Ovicide | Dimethyl N,N'-(thiobis((methylimino)carbonyloxy))bis(ethanimidothioate)
000264 NY-86-0002 | Larvin 3.2 Thiodicarb Insecticide Aqueous Flowable | Dimethyl N,N'-(thiobis((methylimino)carbonyloxy))bis(ethanimidothioate)
000264 OH-89-0005 | Larvin Brand 3.2 Thiodicarb Insecticide/Ovicide | Dimethyl N,N'-(thiobis((methylimino)carbonyloxy))bis(ethanimidothioate)
000264 PA-87-0004 | Larvin 3.2 Thiodicarb Insecticide Aqueous Flowable | Dimethyl N,N'-(thiobis((methylimino)carbonyloxy))bis(ethanimidothioate)
000264 PR-91-0001 | Larvin Brand 3.2 Thiodicarb Insecticide/Ovicide | Dimethyl N,N'-(thiobis((methylimino)carbonyloxy))bis(ethanimidothioate)
000264 RI-95-0001 | Larvin Brand 3.2 Thiodicarb Insecticide/Ovicide | Dimethyl N,N'-(thiobis((methylimino)carbonyloxy))bis(ethanimidothioate)
000264 VA-87-0005 | Larvin 3.2 Thiodicarb Insecticide Aqueous Flowable | Dimethyl N,N'-(thiobis((methylimino)carbonyloxy))bis(ethanimidothioate)
000264 VT-92-0002 | Larvin Brand 3.2 Thiodicarb Insecticide/Ovicide | Dimethyl N,N'-(thiobis((methylimino)carbonyloxy))bis(ethanimidothioate)
000432-00951 | Acclaim 1EC Herbicide | 2-(4-((6-Chloro-2-benzoxazolyl)oxy)phenoxy)propionic acid, ethyl ester, (+-)-
000432-00952 | Acclaim 0.5 WE Herbicide | 2-(4-((6-Chloro-2-benzoxazolyl)oxy)phenoxy)propionic acid, ethyl ester, (+-)-
000432-00953 | Acclaim 0.75EC Herbicide | 2-(4-((6-Chloro-2-benzoxazolyl)oxy)phenoxy)propionic acid, ethyl ester, (+-)-
000769-00645 | SMCP TTC Turf Fungicide | Pentachloronitrobenzene
|  | Tetramethyl thiuramdisulfide
|  | cis-N-Trichloromethylthio-4-cyclohexene-1,2-dicarboximide
001015-00051 | 88 Farm Bin Spray Improved | Methoxychlor (2,2-bis(p-methoxyphenyl)-1,1,1-trichloroethane)
|  | O,O-Dimethyl phosphorodithioate of diethyl mercaptosuccinate
001448-00387 | M-5-3 | 2-(Thiocyanomethylthio)benzothiazole
|  | Methylene bis(thiocyanate)
003125-00400 | Dylox 6.2% Insecticide Granules | Dimethyl (2,2,2-trichloro-1-hydroxyethyl)phosphonate
003125 WA-81-0041 | Sencor 4 Flowable Herbicide | 1,2,4-Triazin-5(4H)-one, 4-amino-6-(1,1-dimethylethyl)-3-(methylthio)-
003125 WA-87-0007 | Sencor 4 Flowable Herbicide | 1,2,4-Triazin-5(4H)-one, 4-amino-6-(1,1-dimethylethyl)-3-(methylthio)-
005481-00083 | Durham Duratex H. R. Granules 1 | O,O-Dimethyl O-(4-(methylthio)-m-tolyl) phosphorothioate
005481-00084 | Durham Duratex Granules 1 | O,O-Dimethyl O-(4-(methylthio)-m-tolyl) phosphorothioate
005481-00101 | Durham Duratex Granules 2 | O,O-Dimethyl O-(4-(methylthio)-m-tolyl) phosphorothioate
005481-00250 | Captan 7.5 Dust | cis-N-Trichloromethylthio-4-cyclohexene-1,2-dicarboximide
007401-00355 | Ferti-Loam Improved Rose Spray | Methoxychlor (2,2-bis(p-methoxyphenyl)-1,1,1-trichloroethane)
|  | O,O-Dimethyl phosphorodithioate of diethyl mercaptosuccinate
|  | cis-N-Trichloromethylthio-4-cyclohexene-1,2-dicarboximide
007501 OR-99-0059 | Evolve Potato Seed—Piece Treatment | Gas cartidge (as a device for burrowing animal control)
|  | Zinc ion and manganese ethylenebisdithiocarbamate, coordination product
|  | Dimethyl ((1,2-phenylene)bis(iminocarbonothioyl))bis(carbamate)
|  | 2-Cyano-N-((ethylamino)carbonyl)-2-(methoxyimino)acetamide
007969 WA-90-0014 | Banvel SGF Herbicide | Sodium 3,6-dichloro-o-anisate
007969 WA-91-0032 | Banvel Herbicide | Dimethylamine 3,6-dichloro-o-anisate
009779-00308 | Trific 60-DF | Trifluralin (α,α,α-trifluro-2,6-dinitro-N,N-dipropyl-p-toluidine) (Note: a = alpha)
010163 WA-95-0016 | Imidan 70-WSB | N-(Mercaptomethyl)phthalimide S-(O,O-dimethyl phosphorodithioate)
010182 ME-96-0004 | Diquat Herbicide | 6,7-Dihydrodipyrido(1,2-a:2',1'-c)pyrazinediium dibromide
010182 WA-97-0028 | Ambush Insecticide | Cyclopropanecarboxylic acid, 3-(2,2-dichloroethenyl)-2,2-dimethyl-,
028293-00014 | Unicorn Flea & Tick Powder for Dogs and Cats #3 | Methoxychlor (2,2-bis(p-methoxyphenyl)-1,1,1-trichloroethane)
|  | 1-Naphthyl-N-methylcarbamate
028293-00102 | Unicorn Flea and Tick Powder I | Methoxychlor (2,2-bis(p-methoxyphenyl)-1,1,1-trichloroethane)
|  | 1-Naphthyl-N-methylcarbamate
028293-00108 | Unicorn Equine Spray and Rub-On | Butoxypolypropylene glycol
|  | Methoxychlor (2,2-bis(p-methoxyphenyl)-1,1,1-trichloroethane)
|  | (Butylcarbityl)(6-propylpiperonyl) ether 80% and related compounds 20%
|  | Pyrethrins
029964-00002 | Flowable Captan Seed Protectant | cis-N-Trichloromethylthio-4-cyclohexene-1,2-dicarboximide
034704-00612 | Sprout Nip Ag | Isopropyl N-(3-chlorophenyl)carbamate
034704 LA-96-0010 | Diazinon 500-AG | O,O-Diethyl O-(2-isopropyl-6-methyl-4-pyrimidinyl) phosphorothioate
039702-00003 | Muralo Lumber Jacket Stain and Wood Preservative | N-((Trichloromethyl)thio)phthalimide
|  | Bis(tributyltin) oxide
050534 WA-93-0017 | Bravo Plus (Bravo C/M) | Basic copper chloride
|  | Manganese ethylenebis(dithiocarbamate)
|  | Tetrachloroisophthalonitrile
058185-00018 | Dycarb 76 Wp Insecticide for Horticulture Plants | Bendiocarb (2,2-dimethyl-1,3-benzoldioxol-4-yl methylcarbamate)
058266 AZ-98-0011 | Tri-Clor Fumigant | Chloropicrin
062719-00042 | Reldan F Insecticidal Chemical | O,O-Dimethyl O-(3,5,6-trichloro-2-pyridyl) phosophorothioate
062719-00043 | Reldan 4E | O,O-Dimethyl O-(3,5,6-trichloro-2-pyridyl) phosophorothioate
066222-00014 | Prometryne 80W | 2,4-Bis(isopropylamino)-6-(methylthio)-s-triazine
069575-00002 | BT-Xtra | Bacillus thuringiensis subsp. kurstaki CryIA (c) delta-endotoxin and the

Unless a request is withdrawn by the registrant within 180 days (30 days when requested by registrant) of publication of this notice, orders will be issued canceling all of these registrations. Users of these pesticides or anyone else desiring the retention of a registration should contact the applicable registrant during this comment period.

The following Table 2, includes the names and addresses of record for all registrants of the products in Table 1, in sequence by EPA company number:

Table 2.—Registrants Requesting Voluntary Cancellation
EPA Company No. | Company Name and Address
000016 | Dragon Chemical Corp., 7033 Walrond Drive, NW, Box 7311, Roanoke, VA 24019.
000239 | The Scotts Co., D/B/A The Ortho Group, Box 1749, Columbus, OH 43216.
000264 | Rhone-Poulenc Ag Co., Box 12014, Research Triangle Park, NC 27709.
000432 | Agrevo Environmental Health, 95 Chestnut Ridge Rd, Montvale, NJ 07645.
000769 | Verdant Brands, Inc., 213 S.W. Columbia St., Bend, OR 97702.
001015 | Douglas Products & Packaging Co., 1550 E. Old 210 Highway, Liberty, MO 64068.
001448 | Buckman Laboratories Inc., 1256 North Mclean Blvd, Memphis, TN 38108.
003125 | Bayer Corp., Agriculture Division, 8400 Hawthorn Rd, Box 4913, Kansas City, MO 64120.
005481 | AMVAC Chemical Corp., Attn: Jon C. Wood, 2110 Davie Ave., Commerce, CA 90040.
007401 | Brazos Associates, Inc., c/o Voluntary Purchasing Groups, Inc., Box 460, Bonham, TX 75418.
007501 | Gustafson LLC, 1400 Preston Rd., Suite 400, Planos, TX 75093.
007969 | BASF Corp., Agricultural Products, Box 13528, Research Triangle Park, NC 27709.
009779 | CENEX/Land-O-Lakes Agronomy Co., 5600 Cenex Drive, Box 64089, Inver Grove Heights, MN 55164.
010163 | Gowan Co, Box 5569, Yuma, AZ 85366.
010182 | Zeneca Ag Products, Box 15458, Wilmington, DE 19850.
028293 | Unicorn Laboratories, 12385 Automobile Blvd., Clearwater, FL 33762.
029964 | Pioneer Hi-Bred International Inc., Box 14458, Des Moines, IA 50306.
034704 | Jane Cogswell, Agent For: Platte Chemical Co Inc., Box 667, Greeley, CO 80632.
039702 | Muralo Co Inc., 148 E. Fifth St., Box 455, Bayonne, NJ 07002.
050534 | GB Biosciences Corp., c/o Zeneca Ag Products, 1800 Concord Pike, Box 15458, Wilmington, DE 19850.
058185 | Scotts-Sierra Crop Protection Co, Attn: Vincent Snyder, Jr, 14111 Scottslawn Rd, Marysville, OH 43041.
058266 | Shadow Mountain Products Corp., Box 1327, Hollister, CA 95024.
062719 | Dow Agrosciences LLC, 9330 Zionsville Rd 308/3E, Indianapolis, IN 46268.
066222 | Makhteshim-Agan of North America Inc., 551 Fifth Ave.- Ste 1100, New York, NY 10176.
069575 | Dekalb Genetics Corp., Biotechnology Regulatory Affairs, 3100 Sycamore Rd, Dekalb, IL 60115.

III. What is the Agency's Authority for Taking this Action?

Section 6(f)(1) of FIFRA provides that a registrant of a pesticide product may at any time request that any of its pesticide registrations be amended to delete one or more uses. The Act further provides that, before acting on the request, EPA must publish a notice of receipt of any such request in the Federal Register. Thereafter, the Administrator may approve such a request.

IV. Loss of Active Ingredient

Unless the request for cancellation is withdrawn, one pesticide active ingredient will no longer appear in any registered products. Those who are concerned about the potential loss of this active ingredient for pesticidal use are encouraged to work directly with the registrant to explore the possibility of withdrawing their request for cancellation. The active ingredient is listed in the following Table 3, with the EPA company and CAS number.

Table 3.—Disappearing Active Ingredient
CAS No. | Chemical Name | EPA Company No.
Unknown | Bacillus thuringiensis subsp. kurstaki CryIA | 069575

V. Procedures for Withdrawal of Request

Registrants who choose to withdraw a request for cancellation must submit such withdrawal in writing to James A. Hollins, at the address given above, postmarked before December 11, 2000. This written withdrawal of the request for cancellation will apply only to the applicable 6(f)(1) request listed in this notice. If the product(s) have been subject to a previous cancellation action, the effective date of cancellation and all other provisions of any earlier cancellation action are controlling. The withdrawal request must also include a commitment to pay any reregistration fees due, and to fulfill any applicable unsatisfied data requirements.

VI. Provisions for Disposition of Existing Stocks

The effective date of cancellation will be the date of the cancellation order. The orders effecting these requested cancellations will generally permit a registrant to sell or distribute existing stocks for 1 year after the date the cancellation request was received by the Agency. This policy is in accordance with the Agency's statement of policy as prescribed in Federal Register (56 FR 29362) June 26, 1991; (FRL 3846-4). Exception to this general rule will be made if a product poses a risk concern, or is in noncompliance with reregistration requirements, or is subject to a data call-in. In all cases, product-specific disposition dates will be given in the cancellation orders.

Existing stocks are those stocks of registered pesticide products which are currently in the United States and which have been packaged, labeled, and released for shipment prior to the effective date of the cancellation action. Unless the provisions of an earlier order apply, existing stocks already in the hands of dealers or users can be distributed, sold or used legally until they are exhausted, provided that such further sale and use comply with the EPA-approved label and labeling of the affected product(s). Exceptions to these general rules will be made in specific cases when more stringent restrictions on sale, distribution, or use of the products or their ingredients have already been imposed, as in Special Review actions, or where the Agency has identified significant potential risk concerns associated with a particular chemical.

List of Subjects

Environmental protection, Pesticides and pests, Product registrations.

Dated: May 31, 2000.
Richard D. Schmitt,
Associate Director, Information Resources Services Division, Office of Pesticide Programs.

[FR Doc. 00-15035 Filed 6-13-00; 8:45 am]

BILLING CODE 6560-50-F